DEPARTMENT OF JUSTICE

Notice of Lodging of Consent Decree Under the Comprehensive Environmental Response, Compensation, and Liability Act

Notice is hereby given that on July 12, 2006, a proposed Consent Decree in United States v. NL Industries, Inc., et al., Civil Action No. 91-00578-JLF, was lodged with the United States District Court for the Southern District of Illinois. The Consent Decree resolves claims of the United States under Sections 106 and 107 of the Comprehensive Environmental Response, Compensation, and Recovery Act (“CERCLA”), 42 U.S.C. 9606 and 9607, against Ace Scrap Metal Processors, Inc. (“Settling Defendant”), in connection with the NL Industries/Taracorp Superfund Site located in Granite City, Madison, and Venice, Illinois.

Under the proposed settlement, Settling Defendant will pay $580,000 of U.S. EPA's past costs incurred at the Site, and a civil penalty of $20,000 for failure to comply with a unilateral administrative order issued by U.S. EPA.

The Department of Justice will receive for a period of thirty (30) days from the date of this publication comments relating to the Consent Decree. Comments should be addressed to the Assistant Attorney General, Environment and Natural Resources Division, P.O. Box 7611, U.S. Department of Justice, Washington, DC 20044-7611, and should refer to United States v. NL Industries, Inc., et al., D.J. Ref. 90-11-3-608A.

The Consent Decree may be examined at the Office of the United States Attorney, Nine Executive Drive, Suite 300, Fairview Heights, Illinois 62208, and at U.S. EPA Region V, 77 West Jackson Blvd., Chicago, IL 60604. During the public comments period, the Consent Decree may also be examined on the following Department of Justice Web site: http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6.25 (25 cents per page reproduction cost) payable to the U.S. Treasury.

William D. Brighton,
Assistant Chief, Environmental Enforcement Section, Environment and Natural Resources Division.

[FR Doc. 06-6344 Filed 7-18-06; 8:45 am]

BILLING CODE 4410-15-M